DEPARTMENT OF THE TREASURY

Financial Crimes Enforcement Network Privacy Act of 1974; Systems of Records

AGENCY: Financial Crimes Enforcement Network, Treasury.

ACTION: Notice of alterations to two Privacy Act systems of records.

SUMMARY: In accordance with the Privacy Act of 1974, as amended, the Financial Crimes Enforcement Network (FinCEN), Department of the Treasury (Treasury), gives notice of proposed alterations to existing systems of records entitled the “Suspicious Activity Reporting System—Treasury/DO .212” and the “Bank Secrecy Act Reports System—Treasury/DO .213”. The systems of records were last published in their entirety on February 19, 2002, at 67 FR 7496, and 67 FR 7498, respectively.

DATES: Comments must be received no later than June 24, 2002. The revised systems of records will be effective as of July 3, 2002, unless comments are received that result in a contrary determination and notice is published to that effect.

ADDRESSES: Written comments should be sent to: FinCEN, P.O. Box 39, Vienna, VA 22183-0039, Attention: Revisions to PA Systems of Records—Comments. Comments may also be submitted by electronic mail to the following Internet address—regcomments@fincen.treas.gov—with the above caption in the body of the text. Comments may be inspected at FinCEN between 10 a.m. and 4 p.m., in the FinCEN Reading Room in Washington, DC. Persons wishing to inspect the comments submitted must request an appointment by telephoning (202) 354-6400.

FOR FURTHER INFORMATION CONTACT: Albert R. Zarate, Senior Regulatory Counsel, Office of Chief Counsel, FinCEN, (703) 905-3590.

SUPPLEMENTARY INFORMATION: The systems of records contain information collected under the authority of the Bank Secrecy Act, the popular name for Titles I and II of Public Law 91-508, as amended, and codified at 12 U.S.C. 1829b, 12 U.S.C. 1951-1959, and 31 U.S.C. 5311-5331. The regulations implementing the authority contained in the Bank Secrecy Act are found at 31 CFR part 103. The authority to administer 31 CFR part 103 has been delegated to FinCEN.

The systems of records are being revised to reflect certain changes in the law made by the Uniting and Strengthening America by Providing Appropriate Tools Required to Intercept and Obstruct Terrorism (USA PATRIOT) Act of 2001, Public Law 107-56 (October 26, 2001). The USA PATRIOT Act, among other things, provides the Treasury with additional authorities relating to the collection, use, and dissemination of information, including Bank Secrecy Act information, to help prevent, detect, and prosecute money laundering and the financing of terrorism.

Specifically, the routine uses for the systems of records are being amended, consistent with section 358 of the USA PATRIOT Act, to make clear that Bank Secrecy Act information may be provided to United States intelligence agencies for the purpose of conducting intelligence or counterintelligence, including analysis, to protect against international terrorism.

The Suspicious Activity Reporting System also is being altered, consistent with section 314 of the USA PATRIOT Act, to reflect that it may contain information relating to individuals, entities, and organizations reasonably suspected of engaging in terrorist and other criminal activities, including information provided to FinCEN from financial institutions regarding such individuals, entities, and organizations. Existing routine use (7) for the Suspicious Activity Reporting System would permit FinCEN to disclose information within that System to financial institutions to the extent necessary to elicit information pertinent to the investigation, prosecution, or enforcement of civil or criminal statutes, rules, regulations, or orders.

The Bank Secrecy Act Reports System also is being amended, consistent with section 358 of the USA PATRIOT Act, to reflect that BSA reports may be provided to appropriate self-regulatory organizations when relevant to the responsibilities of those organizations. Existing routine use (3) for the Suspicious Activity Report System already contains similar language.

Finally, the Bank Secrecy Act Reports System also is being amended to clarify that FinCEN Form 8300 information reported under the Bank Secrecy Act and its implementing regulations, as authorized by section 365 of the USA PATRIOT Act, is covered by that system. For purposes of clarity, other technical changes to the systems of records are being made, as indicated later in this document.

Because information in the systems of records may be retrieved by personal identifier, the Privacy Act of 1974 requires the Treasury to give general notice and seek public comments when making substantive changes to these Systems.

The altered system of records report, as required by 5 U.S.C. 552a(r), has been submitted to the Committee on Government Reform in the House of Representatives, the Committee on Governmental Affairs in the Senate, and Office of Management and Budget, pursuant to Appendix I to OMB Circular A-130, “Federal Agency Responsibilities for Maintaining Records About Individuals,” November 30, 2000.

For the reasons set forth above, FinCEN proposes to alter the Suspicious Activity Reporting System and the Bank Secrecy Act Reports System as follows:

TREASURY/DO .212

SYSTEM NAME:

Suspicious Activity Report System (the “SAR System”)—Treasury/DO.

SYSTEM LOCATION:

Description of change: Delete the existing sentence in this paragraph and in its place add the following language: The Internal Revenue Service Detroit Computing Center, 985 Michigan Avenue, Detroit, Michigan 48226-1129 and the Financial Crimes Enforcement Network (“FinCEN”), P.O. Box 39, Vienna, VA 22183-0039.”

CATEGORIES OF INDIVIDUALS COVERED BY THE SYSTEM:

* * * * *

Description of change: In category (2)(b) of this paragraph, replace the words “31 U.S.C. 5311, et seq.” with the words “31 U.S.C. 5311-5331.” The word “and” at the end of category (8) is removed. The period “.” at the end of category (9) is replaced with a semicolon (;) and categories (10), (11) and (12) are added to read as follows:

“(10) Individuals, entities and organizations suspected of engaging in terrorist and other criminal activities and any person who may be affiliated with such individuals, entities or organizations;

(11) Individuals or entities named by financial institutions as persons to be contacted for further assistance by government agencies in connection with individuals, entities or organizations suspected of engaging in terrorist or other criminal activities;

(12) Individuals or entities involved in evaluating or investigating any matters in connection with individuals, entities or organizations suspected of engaging in terrorist or other criminal activity.”

CATEGORIES OF RECORDS IN THE SYSTEM:

Description of change: Delete the first sentence of this paragraph and in its place add the following language to read as follows:

“The SAR System contains information reported to FinCEN by a financial institution (including, but not limited to, a depository institution, a money services business, a broker-dealer in securities, and a casino) on a Suspicious Activity Report (“SAR”) that is filed voluntarily or as required under the authority of FinCEN, one or more of the Federal Supervisory Agencies, or under any other authority. The SAR System also may contain information that may relate to terrorist or other criminal activity that is reported voluntarily to FinCEN by any individual or entity through any other means, including through FinCEN's Financial Institutions Hotline. The SAR System also may contain information relating to individuals, entities, and organizations reasonably suspected based on credible evidence of engaging in terrorist or other criminal activities, including information provided to FinCEN from financial institutions regarding such individuals, entities, and organizations.”

* * * * *

AUTHORITY FOR MAINTENANCE OF THE SYSTEM:

Description of change: Replace the words “Department of the Treasury Order 105-08” with the words “31 U.S.C. 310”.

* * * * *

ROUTINE USES OF RECORDS MAINTAINED IN THE SYSTEM, INCLUDING CATEGORIES OF USERS AND THE PURPOSES OF SUCH USES:

* * * * *

Description of change: The word “and” at the end of routine use (11) is removed. The period “.” at the end of routine use (12) is replaced with a semicolon (;), and routine use (13) is added to read as follows:

“(13) Disclose information to United States intelligence agencies in the conduct of intelligence or counterintelligence activities, including analysis, to protect against international terrorism.”

* * * * *

TREASURY/DO .213

SYSTEM NAME:

Bank Secrecy Act Reports System—Treasury/DO.

* * * * *

CATEGORIES OF INDIVIDUALS COVERED BY THE SYSTEM:

Description of change: The first sentence of this paragraph is revised to read as follows:

“Persons identified in reports filed under the Bank Secrecy Act and its implementing regulations (31 CFR part 103) including, but not limited to, reports made on IRS Form 4789 (Currency Transaction Report), IRS Form 8362 (Currency Transaction Report by Casinos), forms filed by casinos located in the State of Nevada in lieu of Form 8362, FinCEN Form 8300 (Report of Cash Payments Over $10,000 Received in a Trade or Business), Customs Form 4790 (Report of International Transportation of Currency or Monetary Instruments), Treasury Form TDF 90-22.1 (Report of Foreign Bank and Financial Accounts), Treasury Form TDF 90-22.53 (Designation of Exempt Person), and Treasury Form TDF 90-22.55 (Registration of Money Services Businesses).”

* * * * *

CATEGORIES OF RECORDS IN THE SYSTEM:

Description of change: The first sentence of this paragraph is revised to read as follows:

“Information or reports filed under the Bank Secrecy Act and its implementing regulations (31 CFR Part 103) including, but not limited to, reports made on IRS Form 4789 (Currency Transaction Report), IRS Form 8362 (Currency Transaction Report by Casinos), forms filed by casinos located in the State of Nevada in lieu of Form 8362, FinCEN Form 8300 (Report of Cash Payments Over $10,000 Received in a Trade or Business), Customs Form 4790 (Report of International Transportation of Currency or Monetary Instruments), Treasury Form TDF 90-22.1 (Report of Foreign Bank and Financial Accounts), Treasury Form TDF 90-22.53 (Designation of Exempt Person), and Treasury Form TDF 90-22.55 (Registration of Money Services Businesses).”

* * * * *

AUTHORITY FOR MAINTENANCE OF THE SYSTEM:

Description of change: Replace the words “31 U.S.C. 5311-5314, 5316 et seq.” with the words “31 U.S.C. 5311-5331” and replace the words “Treasury Department Order No. 105-08” with the words “31 U.S.C. 310”.

PURPOSES:

Description of Change: In the first sentence of this paragraph, replace the words “31 U.S.C. 5311-5314, 5316, et seq” with the words “31 U.S.C. 5311-5331” and add the words “, or in the conduct of intelligence or counterintelligence activities, including analysis, to protect against international terrorism” before the period.

* * * * *

ROUTINE USES OF RECORDS MAINTAINED IN THE SYSTEM, INCLUDING CATEGORIES OF USERS AND THE PURPOSES OF SUCH USES:

* * * * *

Description of changes: a. Delete the current text of routine use (4) and in its place add the following to read as follows:

“Provide information or records to any appropriate domestic or non-United States governmental agency or self-regulatory organization charged with the responsibility of administering law or investigating or prosecuting violations of law, or charged with the responsibility of enforcing or implementing a statute, rule, regulation, order, or policy, when relevant to the responsibilities of these agencies or organizations;”

* * * * *

b. The word “and” at the end of routine use (7) is removed. The period “.” at the end of routine use (8) is replaced with a semicolon (;), and routine use (9) is added to read as follows:

“(9) Provide information or records to United States intelligence agencies in the conduct of intelligence or counterintelligence activities, including analysis, to protect against international terrorism.”

* * * * *

Dated: April 8, 2002.
W. Earl Wright, Jr.,
Chief Management and Administrative Programs Officer.

[FR Doc. 02-13053 Filed 5-23-02; 8:45 am]

BILLING CODE 4810-02-P